DEPARTMENT OF DEFENSE

Department of the Army; Corps of Engineers

Intent To Prepare a Draft Feasibility Study and Environmental Impact Statement for Modification of the Coos Bay Navigational Channel, Coos County, OR

AGENCY: Department of the Army, U.S. Army Corps of Engineers, DOD.

ACTION: Notice.

SUMMARY: The U.S. Army Corps of Engineers (Corps), Portland District will be the lead agency for a combined Draft Feasibility Study/Environmental Impact Statement (FS/EIS) for Coos Bay Channel Modifications in Coos County, Oregon. The FS/EIS is being prepared by the Oregon International Port of Coos Bay (Port) under the authority granted by section 203 of the Water Resources Development Act (WRDA) of 1986.

DATES: All parties are invited to participate in the scoping process to determine the range of issues and alternatives to be addressed. A public scoping meeting will be held on Thursday, January 24, 2008, from 4-8 p.m. at the City of North Bend Community Center, 222 Broadway Street, North Bend, OR 97459. In addition, written comments will also be accepted until February 15, 2008, at the address listed below or at the project Web site: http://www.CoosBayChannelEIS.com. The Corps expects the Draft FS/EIS to be made available to the public in March 2009. A public hearing will be held during the public comment period for the Draft FS/EIS.

ADDRESSES: U.S. Army Corps of Engineers, Programs and Project Management Division, Planning Branch, P.O. 2946, Portland, OR 97208-2946.

FOR FUTHER INFORMATION CONTACT: Mr. Eric Bluhm, who can be reached by telephone at (503) 808-4759, by fax at (503) 808-4736, or by e-mail at eric.v.bluhm@usace.army.mil.

SUPPLEMENTARY INFORMATION: 1. Project Site and Background Information. The project site is in Coos Bay, located on the central/south coast of Oregon. The Coos Bay Federal Navigation Project was originally authorized by the River and Harbor Act of March 1879. The Federal Navigation Project was last modified by the Corps in 1997, with a channel configuration of approximately 37 feet deep and 300 feet wide from the ocean inlet to a railroad bridge at River Mile (RM) 9.2, and continuing at 400 feet wide upstream to RM 15.0.

2. Proposed Action. The proposed Federal actions are to modify the Coos Bay Navigational Channel from the entrance at the Pacific Ocean to the railroad bridge located at approximately river mile (RM) 9.2 and to provide ecosystem restoration in the vicinity of Coos Bay. The channel would be deepened and widened to accommodate large container vessels, and a vessel turning basin would be added for vessel maneuvering. Maintenance dredging of the channel and inlet, and possible modifications to the jetties would also be part of the Federal proposed action. Dredged material could be disposed at a variety of locations including ocean, nearshore, and at the shoreline.

Other, non-Federal but inter-dependent and inter-related actions proposed by the Port include developing an inter-modal container terminal on the North Spit of Coos Bay and making improvements to the railway corridor from the North Spit to Eugene, Oregon to transport goods off-loaded from container vessels.

3. Purpose of and Need for the Project. The purposes of the proposed Federal action are: (1) To respond to growing needs for capacity for large container vessels at ports on the West Coast of the U.S.; (2) to provide economic benefits to the national economy by accommodating large container vessels, thereby reducing costs of transporting goods among Pacific Rim countries and maintaining U.S. competitiveness in the global marketplace; (3) to improve security for international movement of goods by developing an additional facility for large container vessels in a new location on the U.S. West Coast; (4) to improve safety and efficiency of navigation in the Coos Bay Navigational Channel by providing a larger area for vessel handling and maneuvering; and (5) to have a net beneficial effect on the estuarine ecosystem in the vicinity of Coos Bay.

The project is needed to accommodate large container vessels, which are used by Pacific Rim shippers transporting a wide variety of consumer goods as well as import production commodities for manufacturing firms, and U.S. produced goods for export. The volume of container traffic has increased significantly during the past ten years, and growth is expected to remain strong. Ocean carriers are responding to the growth opportunities by using larger and larger vessels. Currently, the average vessel calling at U.S. West Coast ports carries 6,500 TEUs (20-foot equivalent units), but vessels capable of carrying 12,000 TEUs are becoming more common. The larger vessels can transport containers more efficiently and at lower costs than smaller vessels. For navigation safety, a navigational channel should be at least 10 percent deeper than the draft of the largest vessels that utilize the channel, as well as wide enough to allow safe vessel maneuvering. Existing Coos Bay port facilities are not accessible to many larger ships because of depth and width limitations in the navigational channel.

In addition to deep-draft harbors, large container vessels require ports with terminals that are large enough to accommodate the containers once they are off-loaded, and that are connected to a railway system to move the containers on land. Currently, only five ports on the U.S. west coast (Los Angeles, Long Beach and Oakland, California; and Tacoma and Seattle, Washington) can accommodate these large container vessels, and additional capacity is needed. Container vessel traffic will likely exceed the capacity of existing terminals by 2015, if not sooner. In addition, should one of the existing deep-draft ports be significantly damaged (for example, by a natural disaster), it could have a major impact on the national economy. Coos Bay is geographically separated from the other deep-draft ports and, therefore, would be unlikely to be damaged by the same event affecting another major West Coast port.

Past development and resource extraction within and near Coos Bay have negatively affected the local ecosystem. Impacts have included habitat degradation and loss, declines in fish and wildlife populations, spread of invasive species, and diminished water quality, among others. Ecosystem restoration is needed to offset the effects of the proposed channel modifications and development, as well as some of the effects of past actions.

5. Alternatives. In addition to a no action alternative (no modifications to the Coos Bay Navigational Channel other than for maintenance) the FS/EIS will evaluate alternatives with channel depths at increments between the currently authorized 37-foot depth and a depth of 51 feet.

6. Issues. Numerous potential environmental issues will be addressed in the FS/EIS, and additional issues may be identified during the scoping process. Issues initially identified include:

(a) Impacts on biological resources, including species listed under Federal and State Endangered Species Acts and State sensitive species.

(b) Geological issues, including dredging and stabilization of fill areas;

(c) Impacts on water and sediment quality;

(d) Land use and planning issues;

(e) Impacts on traffic and transportation systems, including marine navigation, railroads, roads, and the Southwest Oregon Regional Airport at North Bend;

(f) Social and economic impacts;

(g) Potential noise impacts;

(h) Impacts on air quality;

(i) Impacts on public facilities and services;

(j) Impacts on visual resources;

(k) Public health and safety issues;

(l) Impacts on recreation;

(m) Cultural Resources; and

(n) Cumulative effects.

7. Coordination. The proposed action is being coordinated with the U.S. Fish and Wildlife Service (USFWS) and the National Marine Fisheries Service (NMFS) under section 7 of the Endangered Species Act and the Fish and Wildlife Coordination Act. Consultation will also be done with NMFS under section 305(b)(2) of the Magnuson-Stevens Act concerning Essential Fish Habitat, Marine Mammal Protection Act. Consultation will also be done with the State Historic Preservation Officer.

8. Other Environmental Review and Consultation. The proposed action will involve evaluation for compliance with guidelines pursuant to section 404(b) of the Clean Water Act; application (to the State of Oregon) for Water Quality Certification pursuant to section 401 of the Clean Water Act; certification of state lands, easements, and rights of way; and determination of Coastal Zone Management Act consistency.

Dated: December 21, 2007.
Thomas E. O'Donovan,
Col, En, Commanding.

[FR Doc. E8-367 Filed 1-10-08; 8:45 am]

BILLING CODE 3710-AR-P